FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than January 29, 2016.

A. Federal Reserve Bank of Minneapolis (Jacquelyn K. Brunmeier, Assistant Vice President) 90 Hennepin Avenue, Minneapolis, Minnesota 55480-0291:

1. David L. Friedrichsen, Palm Harbor, Florida, and Robin R. Hanson, as trustees of The Friedrichsen DLF Irrevocable Inheritance Trust dated December 8, 2015; The Friedrichsen KEF Irrevocable Inheritance Trust dated December 8, 2015; The Friedrichsen KMC Irrevocable Inheritance Trust dated December 8, 2015; and The Friedrichsen RRH Irrevocable Inheritance Trust dated December 8, 2015, all of Farmington, Minnesota, and as members of the Friedrichsen family shareholder group acting in concert; to acquire voting shares of Citizens Investment Co., Inc., and thereby indirectly acquire voting shares of Citizens State Bank of Glenville, both in Glenville, Minnesota.

Board of Governors of the Federal Reserve System, January 11, 2016.
Michael J. Lewandowski,
Associate Secretary of the Board.

[FR Doc. 2016-00598 Filed 1-13-16; 8:45 am]

BILLING CODE 6210-01-P